COMMODITY FUTURES TRADING COMMISSION

17 CFR Parts 1, 38, 40, and 170

RIN 3038-AD52

Regulation Automated Trading

AGENCY: Commodity Futures Trading Commission.

ACTION: Extension of comment period.

SUMMARY: On November 4, 2016, the Commodity Futures Trading Commission (“Commission”) approved a supplemental notice of proposed rulemaking for Regulation AT (“Supplemental NPRM”). The Supplemental NPRM modifies certain rules proposed in the Commission's December 2015 notice of proposed rulemaking for Regulation AT. The Supplemental NPRM was published in the Federal Register on November 25, 2016, with a 90-day comment period closing on January 24, 2017. Based on the broad range of topics addressed in the Supplemental NPRM and the number of questions posed, the Commission is extending the comment period for the Supplemental NPRM through May 1, 2017.

DATES: The comment period for the Supplemental NPRM is extended until May 1, 2017.

ADDRESSES: You may submit comments, identified by RIN 3038-AD52, by any of the following methods:

• CFTC Web site, via Comments Online: http://comments.cftc.gov. Follow the instructions for submitting comments through the Web site.

• Mail: Christopher J. Kirkpatrick, Secretary of the Commission, Commodity Futures Trading Commission, Three Lafayette Centre, 1155 21st Street NW., Washington, DC 20581.

• Hand Delivery/Courier: Same as Mail above.

• Federal eRulemaking Portal: http://www.regulations.gov. Follow the instructions for submitting comments through the Portal.

Please submit comments by only one method. All comments should be submitted in English or accompanied by an English translation. Comments will be posted as received to http://www.cftc.gov. You should submit only information that you wish to make available publicly. If you wish the Commission to consider information that may be exempt from disclosure under the Freedom of Information Act (“FOIA”), a petition for confidential treatment of the exempt information may be submitted according to the procedures established in 17 CFR 145.9. The Commission reserves the right, but shall have no obligation, to review, prescreen, filter, redact, refuse, or remove any or all of your submission from http://www.cftc.gov that it may deem to be inappropriate for publication, such as obscene language. All submissions that have been redacted or removed that contain comments on the merits of the rulemaking will be retained in the public comment file and will be considered as required under the Administrative Procedure Act and other applicable laws, and may be accessible under FOIA.

FOR FURTHER INFORMATION CONTACT: Sebastian Pujol Schott, Associate Director, Division of Market Oversight, sps@cftc.gov or 202-418-5641; Marilee Dahlman, Special Counsel, Division of Market Oversight, mdahlman@cftc.gov or 202-418-5264.

SUPPLEMENTARY INFORMATION: On November 4, 2016, the Commission approved for publication in the Federal Register a Supplemental NPRM for Regulation AT. The Supplemental NPRM modifies certain rules set forth in a notice of proposed rulemaking for Regulation AT published in the Federal Register on December 17, 2015. Based on the broad range of topics addressed in the Supplemental NPRM and the number of questions posed, the Commission has determined to extend the comment period. Accordingly, the comment period for the Supplemental NPRM is open through May 1, 2017.

Issued in Washington, DC, on January 23, 2017, by the Commission.
Robert N. Sidman,
Deputy Secretary of the Commission.

Appendix to Regulation Automated Trading—Commission Voting Summary

On this matter, Acting Chairman Giancarlo and Commissioner Bowen voted in the affirmative. Commissioner Massad abstained. No Commissioner voted in the negative.

[FR Doc. 2017-01801 Filed 1-25-17; 8:45 am]

BILLING CODE 6351-01-P